DEPARTMENT OF HOMELAND SECURITY

Federal Emergency Management Agency

[Docket ID FEMA-2022-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Assistant Administrator for Risk Management (Acting), Federal Emergency Management Agency, Department of Homeland Security.

State and county | Location and case No. | Chief executive officer of community | Community map repository | Date of modification | Community No.
Arizona:
Maricopa (FEMA Docket No.: B-2230) | City of Surprise (21-09-1333P) | The Honorable Skip Hall, Mayor, City of Surprise, 16000 North Civic Center Plaza, Surprise, AZ 85374 | Public Works Department, Engineering Development Services, 16000 North Civic Center Plaza, Surprise, AZ 85374 | Jul. 8, 2022 | 040053
Maricopa (FEMA Docket No.: B-2246) | City of Surprise, (21-09-1794P) | The Honorable Skip Hall, Mayor, City of Surprise, 16000 North Civic Center Plaza, Surprise, AZ 85374 | Public Works Department, Engineering Development Services, 16000 North Civic Center Plaza, Surprise, AZ 85374 | Sep. 9, 2022 | 040053
Maricopa (FEMA Docket No.: B-2230) | Unincorporated Areas of Maricopa County (21-09-1333P) | The Honorable Bill Gates, Chair, Board of Supervisors, Maricopa County, 301 West Jefferson Street, Phoenix, AZ 85003 | Flood Control District of Maricopa County, 2801 West Durango Street, Phoenix, AZ 85009 | Jul. 8, 2022 | 040037
Maricopa (FEMA Docket No.: B-2246) | Unincorporated Areas of Maricopa County (21-09-1794P) | The Honorable Bill Gates, Chair, Board of Supervisors, Maricopa County, 301 West Jefferson Street, 10th Floor, Phoenix, AZ 85003 | Flood Control District of Maricopa County, 2801 West Durango Street, Phoenix, AZ 85009 | Sep. 9, 2022 | 040037
Pinal (FEMA Docket No.: B-2237) | City of Maricopa, (21-09-0921P) | The Honorable Nancy Smith, Mayor, City of Maricopa, 39700 West Civic Center Plaza, Maricopa, AZ 85138 | City Hall, 39700 West Civic Center Plaza, Maricopa, AZ 85138 | Aug. 12, 2022 | 040052
Pinal (FEMA Docket No.: B-2237) | Unincorporated Areas of Pinal County (21-09-0921P) | The Honorable Jeffrey McClure, Chair, Board of Supervisors, Pinal County, P.O. Box 827, Florence, AZ 85132 | Pinal County Engineering Division, 31 North Pinal Street, Building F, Florence, AZ 85132 | Aug. 12, 2022 | 040077
Santa Cruz (FEMA Docket No.: B-2246) | Unincorporated Areas of Santa Cruz County (21-09-1881P) | The Honorable Manuel Ruiz, Chair, Board of Supervisors, Santa Cruz County, 2150 North Congress Street, Suite 119, Nogales, AZ 85621 | Santa Cruz County Flood Control District, Gabilondo-Zehentner Building, 275 Rio Rico Drive, Rio Rico, AZ 85648 | Sep. 6, 2022 | 040090
Yavapai (FEMA Docket No.: B-2237) | Town of Prescott Valley (21-09-1013P) | The Honorable Kell Palguta, Mayor, Town of Prescott Valley, Civic Center, 7501 East Skoog Boulevard, 4th Floor, Prescott Valley, AZ 86314 | Town Hall, Engineering Division, 7501 East Civic Circle, Prescott Valley, AZ 86314 | Jul. 20, 2022 | 040121
California:
Fresno (FEMA Docket No.: B-2237) | City of Clovis, (21-09-1313P) | The Honorable Jose Flores, Mayor, City of Clovis, 1033 5th Street, Clovis, CA 93612 | City Clerk's Office, Civic Center, 1033 5th Street, Clovis, CA 93612 | Jul. 25, 2022 | 060044
Los Angeles (FEMA Docket No.: B-2246) | Unincorporated Areas of Los Angeles County (21-09-0650P) | The Honorable Holly J Mitchell, Chair, Board of Supervisors, Los Angeles County, 500 West Temple Street Room 866, Los Angeles, CA 90012 | Los Angeles County Public Works Headquarters, Watershed Management Division, 900 South Fremont Avenue, Alhambra, CA 91803 | Sep. 6, 2022 | 065043
Placer (FEMA Docket No.: B-2230) | City of Lincoln (21-09-1152P) | The Honorable Alyssa Silhi, Mayor, City of Lincoln, 600 6th Street, Lincoln, CA 95648 | Community Development Department, 600 6th Street, Lincoln, CA 95648 | Jun. 24, 2022 | 060241
Riverside (FEMA Docket No.: B-2246) | City of Calimesa (21-09-0875P) | The Honorable William Davis, Mayor, City of Calimesa, 908 Park Avenue, Calimesa, CA 92320 | Planning Department, 908 Park Avenue, Calimesa, CA 92320 | Aug. 8, 2022 | 060740
Riverside (FEMA Docket No.: B-2246) | City of Desert Hot Springs (21-09-1924P) | The Honorable Scott Matas, Mayor, City of Desert Hot Springs, 11999 Palm Drive, Desert Hot Springs, CA 92240 | Planning Department, 65950 Pierson Boulevard, Desert Hot Springs, CA 92240 | Sep. 23, 2022 | 060251
Riverside (FEMA Docket No.: B-2246) | Unincorporated Areas of Riverside County (21-09-1924P) | The Honorable Jeff Hewitt, Chair, Board of Supervisors Riverside County, 4080 Lemon Street, 5th Floor, Riverside, CA 92501 | Riverside County Flood Control and Water Conservation District, 1995 Market Street, Riverside, CA 92501 | Sep. 23, 2022 | 060245
San Diego (FEMA Docket No.: B-2230) | City of San Diego (21-09-1601P) | The Honorable Todd Gloria, Mayor, City of San Diego, 202 C Street, 11th Floor, San Diego, CA 92101 | Development Services Department, 1222 1st Avenue, MS 301, San Diego, CA 92101 | Jul. 1, 2022 | 060295
San Diego (FEMA Docket No.: B-2237) | Unincorporated Areas of San Diego County (20-09-1857P) | The Honorable Nathan Fletcher, Chair, Board of Supervisors, San Diego County, 1600 Pacific Highway, Room 335, San Diego, CA 92101 | San Diego County Flood Control District, Department of Public Works, 5510 Overland Avenue, Suite 410, San Diego, CA 92123 | Aug. 19, 2022 | 060284
Ventura (FEMA Docket No.: B-2246) | City of Oxnard (22-09-0194P) | The Honorable John C. Zaragoza, Mayor, City of Oxnard, 300 West 3rd Street, Oxnard, CA 93030 | Development Services Support Division, Service Center, 214 South C Street, Oxnard, CA 93030 | Sep. 6, 2022 | 060417
Ventura (FEMA Docket No: B-2246) | Unincorporated Areas of Ventura County (22-09-0194P) | The Honorable Carmen Ramirez, Chair, Board of Supervisors Ventura County, 800 South Victoria Avenue, Ventura, CA 93009 | Ventura County Public Works Agency, 800 South Victoria Avenue, Ventura, CA 93009 | Sep. 6, 2022 | 060413
Yolo (FEMA Docket No.: B-2237) | City of Davis (20-09-2115P) | The Honorable Gloria Partida, Mayor, City of Davis, 23 Russell Boulevard, Suite 1, Davis, CA 95616 | City Hall, 23 Russell Boulevard, Davis, CA 95616 | Aug. 15, 2022 | 060424
Florida:
Bay (FEMA Docket No.: B-2230) | Unincorporated Areas of Bay County (21-04-1447P) | Commissioner Robert Carroll, Chair, District 2, Bay County, 840 West 11th Street, Panama City, FL 32401 | Bay County Planning and Zoning, 707 Jenks Avenue, Suite B, Panama City, FL 32401 | Jun. 23, 2022 | 120004
Orange (FEMA Docket No.: B-2237) | City of Orlando (21-04-2426P) | The Honorable Buddy Dyer, Mayor, City of Orlando, P.O. Box 4990, Orlando, FL 32802 | City Hall, 400 South Orange Avenue, 1st Floor, Orlando, FL 32801 | Aug. 26, 2022 | 120186
Orange (FEMA Docket No.: B-2237) | Unincorporated Areas of Orange County (21-04-2426P) | The Honorable Jerry L. Demings, Mayor, Orange County, 201 South Rosalind Avenue, 5th Floor, Orlando, FL 32801 | Orange County Stormwater Management Division, 4200 South Young Parkway, Orlando, FL 32839 | Aug. 26, 2022 | 120179
St. Johns (FEMA Docket No.: B-2246) | Unincorporated Areas of St. Johns County (21-04-5482P) | Henry Dean, Chair, St. Johns County Board of County Commissioners, 500 San Sebastian View, St. Augustine, FL 32084 | St. Johns County Administration Building, 4020 Lewis Speedway, St. Augustine, FL 32084 | Sep. 13, 2022 | 125147
Walton (FEMA Docket No.: B-2230) | Unincorporated Areas of Walton County (21-04-1447P) | Commissioner Trey Nick, Chair, District 4, Walton County, 263 Chaffin Avenue, DeFuniak Springs, FL 32433 | Walton County Planning and Development Services Department, 31 Coastal Centre Boulevard, Santa Rosa Beach, FL 32459 | Jun. 23, 2022 | 120317
Idaho:
Ada (FEMA Docket No.: B-2246) | City of Boise (21-10-1267P) | The Honorable Lauren McLean, Mayor, City of Boise, P.O. Box 500, Boise, ID 83701 | City Hall, 150 North Capitol Boulevard, Boise, ID 83701 | Sep. 14, 2022 | 160002
Ada (FEMA Docket No.: B-2237) | Unincorporated Areas of Ada County (21-10-1055P) | Rod Beck, Chair, Ada County Board of Commissioners, 200 West Front Street, 3rd Floor, Boise, ID 83702 | Ada County Courthouse, 200 West Front Street, Boise, ID 83702 | Aug. 5, 2022 | 160001
Bonneville (FEMA Docket No.: B-2237) | Unincorporated Areas of Bonneville County (22-10-0131P) | Roger Christensen, Chair, Bonneville County Board of Commissioners, 605 North Capital Avenue, Idaho Falls, ID 83402 | Bonneville County Courthouse, 605 North Capital Avenue, Idaho Falls, ID 83402 | Jul. 28, 2022 | 160027
Fremont (FEMA Docket No.: B-2237) | Unincorporated Areas of Fremont County (21-10-1438P) | Commissioner Jordan Stoddard, Board of Fremont County Commissioners, 151 West 1st North, Room 10, St Anthony, ID 83445 | Fremont County Court House, 151 West 1st North, St. Anthony, ID 83445 | Aug. 1, 2022 | 160061
Kootenai (FEMA Docket No.: B-2246) | Unincorporated Areas of Kootenai County, (21-10-0970P) | Chair Chris Fillios, Commissioner, District 2, Kootenai County, 451 Government Way, Coeur d'Alene, ID 83816 | Kootenai County Assessors Department, Kootenai County Court House, 451 Government Way, Coeur d'Alene, ID 83816 | Sep. 14, 2022 | 160076
Illinois:
Cook (FEMA Docket No.: B-2224) | Village of Wheeling (21-05-4442P) | The Honorable Patrick Horcher, Village President, Village of Wheeling, 2 Community Boulevard, Wheeling, IL 60090 | Village Hall, Community Development Engineering Division, 2 Community Boulevard, Wheeling, IL 60090 | Jun. 23, 2022 | 170173
McHenry (FEMA Docket No.: B-2213) | Village of Algonquin, (21-05-4386P) | The Honorable Debby Sosine, Village President, Village of Algonquin, 2200 Harnish Drive, Algonquin, IL 60102 | Village Hall, 2200 Harnish Drive, Algonquin, IL 60102 | May 23, 2022 | 170474
Putnam (FEMA Docket No.: B-2224) | Village of Hennepin (22-05-0122P) | The Honorable Kevin J. Coleman, Mayor, Village of Hennepin, 627 East High Street, Hennepin, IL 61327 | Village Hall, 627 East High Street, Hennepin, IL 61327 | Jun. 23, 2022. | 170570
Randolph (FEMA Docket No.: B-2237) | Unincorporated Areas of Randolph County (22-05-0587P) | The Honorable Marc Kiehna, Chair, Board of Commissioners, Randolph County Courthouse, 1 Taylor Street, Chester, IL 62233 | Randolph County Courthouse, 1 Taylor Street, Chester, IL 62233 | Aug. 19, 2022 | 170575
Will (FEMA Docket No.: B-2213) | City of Lockport, (19-05-4019P) | The Honorable Steven Streit, Mayor, City of Lockport, 222 East 9th Street, Lockport, IL 60441 | Public Works and Engineering Department, 17112 South Prime Boulevard, Lockport, IL 60441 | May 23, 2022 | 170703
Will (FEMA Docket No.: B-2237) | City of Naperville (21-05-0302P) | The Honorable Steve Chirico, Mayor, City of Naperville, Municipal Center, 400 South Eagle Street, Naperville, IL 60540 | Municipal Center, 400 South Eagle Street, Naperville, IL 60540 | Jul. 28, 2022 | 170213
Will (FEMA Docket No.: B-2213) | Unincorporated Areas of Will County (19-05-4019P) | The Honorable Jennifer Bertino-Tarrant, Will County Executive, Will County Office Building, 302 North Chicago Street, Joliet, IL 60432 | Will County Land Use Department, 58 East Clinton Street, Suite 100, Joliet, IL 60432 | May 23, 2022 | 170695
Will (FEMA Docket No.: B-2237) | Unincorporated Areas of Will County (21-05-0302P) | The Honorable Jennifer Bertino-Tarrant, Will County Executive, Will County Office Building, 302 North Chicago Street, Joliet, IL 60432 | Will County Land Use Department, 58 East Clinton Street, Suite 100, Joliet, IL 60432 | Jul. 28, 2022 | 170695
Will (FEMA Docket No.: B-2237) | Village of Bolingbrook (21-05-4669P) | The Honorable Mary Alexander-Basta, Mayor, Village of Bolingbrook, 375 West Briarcliff Road, Bolingbrook, IL 60440 | Village Hall, 375 West Briarcliff Road, Bolingbrook, IL 60440 | Aug. 3, 2022 | 170812
Will (FEMA Docket No.: B-2246) | Village of Plainfield, (22-05-0786P) | The Honorable John F. Argoudelis, Village President, Village of Plainfield, 24401 West Lockport Street, Plainfield, IL 60544 | Village Hall, 24401 West Lockport Street, Plainfield, IL 60544 | Sep. 7, 2022 | 170771
Indiana:
Hendricks, (FEMA Docket No.: B-2237) | Town of Danville, (21-05-2756P) | David Winters, President, Danville Town Council, 49 North Wayne Street, Danville, IN 46122 | Town of Danville, Planning Department, 147 West Main Street, Danville, IN 46122 | Aug. 12, 2022 | 180088
Hendricks (FEMA Docket No.: B-2237) | Unincorporated Areas of Hendricks County (21-05-2756P) | Phyllis Palmer, President, Hendricks County Board of Commissioners, 49 North Wayne Street, Danville, IN 46122 | Hendricks County Government Center, 355 South Washington Street, Danville, IN 46122 | Aug. 12, 2022 | 180415
Lake (FEMA Docket No.: B-2237) | Town of Cedar Lake (21-05-4556P) | The Honorable Randy Niemeyer, Town Council President, Town of Cedar Lake, 7408 Constitution Avenue, Cedar Lake, IN 46303 | Town Hall, 7408 Constitution Avenue, Cedar Lake, IN 46303 | Jul. 27, 2022 | 180127
Tippecanoe (FEMA Docket No.: B-2246) | Unincorporated Areas of Tippecanoe County (21-05-3329P) | Commissioner Tom Murtaugh, Member, Tippecanoe County Board of Commissioners, 20 North 3rd Street, 1st Floor, Lafayette, IN 47901 | Tippecanoe County Office, 20 North 3rd Street, Lafayette, IN 47901 | Sep. 13, 2022 | 180428
Kansas:
Johnson (FEMA Docket No.: B-2246) | City of Mission (21-07-1200P) | Laura Smith, Administrator, City of Mission, 6090 Woodson Road, Mission, KS 66202 | City Hall, 6090 Woodson Road, Mission, KS 66202 | Sep. 14, 2022 | 200170
Johnson (FEMA Docket No.: B-2237) | City of Olathe (21-07-0765P) | The Honorable John Bacon, Mayor, City of Olathe, 100 East Santa Fe Street, Olathe, KS 66061 | City Hall, 100 West Santa Fe Drive, Olathe, KS 66061 | Aug. 4, 2022 | 200173
Michigan:
Saginaw (FEMA Docket No.: B-2230) | City of Frankenmuth (21-05-3420P) | The Honorable Mary Anne Ackerman, Mayor, City of Frankenmuth, City and Township Government Center, 240 West Genesee Street, Frankenmuth, MI 48734 | City and Township Government Center, 240 West Genesee Street, Frankenmuth, MI 48734 | Jul. 7, 2022 | 260188
Saginaw (FEMA Docket No.: B-2230) | Township of Frankenmuth (21-05-3420P) | Tim Hildner, Supervisor, Township of Frankenmuth, P.O. Box 245, Frankenmuth, MI 48734 | City and Township Government Center, 240 West Genesee Street, Frankenmuth, MI 48734 | Jul. 7, 2022 | 260895
St. Clair (FEMA Docket No.: B-2237) | City of St. Clair (22-05-0188P) | The Honorable William Cedar, Jr., Mayor, City of St. Clair, 547 North Carney Drive, St. Clair, MI 48079 | City Hall, 547 North Carney Drive, St. Clair, MI 48079 | Jun. 1, 2022 | 260279
Missouri: Jackson (FEMA Docket No.: B-2230) | City of Kansas City (21-07-1040P) | The Honorable Quinton Lucas, Mayor, City of Kansas City, City Hall, 414 East 12th Street, Kansas City, MO 64106 | Federal Office Building, 911 Walnut Street, Kansas City, MO 64106 | Jul. 6, 2022 | 290173
Nevada: Douglas (FEMA Docket No.: B-2246) | Unincorporated Areas of Douglas County (21-09-1466P) | The Honorable Mark Gardner, Chair, Board of Commissioners, Douglas County, P.O. Box 218, Minden, NV 89423 | Douglas County, Community Development, 1594 Esmeralda Avenue, Minden, NV 89423 | Sep. 8, 2022 | 320008
New Jersey: Mercer (FEMA Docket No.: B-2237) | Township of Ewing, (21-02-0942P) | The Honorable Bert Steinmann, Mayor, Township of Ewing, 2 Jake Garzio Drive, Ewing, NJ 08628 | Construction Office, 2 Jake Garzio Drive, Ewing, NJ 08628 | Aug. 18, 2022 | 345294
New York: Westchester (FEMA Docket No.: B-2237) | Town of North Castle, (21-02-1100P) | Michael J Schiliro, Supervisor, Town of North Castle, 15 Bedford Road, Armonk, NY 10504 | Town Engineer, 200 South Greeley Avenue, Chappaqua, NY 10514 | Oct. 13, 2022 | 360923
Ohio:
Erie (FEMA Docket No.: B-2237) | Unincorporated Areas of Erie County (22-05-0959P) | Commissioner Patrick Shenigo, Erie County Board of Commissioners, 2900 Columbus Avenue, Sandusky, OH 44870 | Erie County Regional Planning Commission, 2900 Columbus Avenue, Sandusky, OH 44870 | Sep. 2, 2022 | 390153
Lorain (FEMA Docket No.: B-2230) | City of Avon (21-05-4651P) | The Honorable Bryan K Jensen, Mayor, City of Avon, 36080 Chester Road, Avon, OH 44011 | City Hall, Planning Department, 36080 Chester Road, Avon, OH 44011 | Jul. 8, 2022 | 390348
Lorain (FEMA Docket No.: B-2230) | City of North Ridgeville (21-05-4651P) | The Honorable Kevin Corcoran, Mayor, City of North Ridgeville, 7307 Avon Belden Road, North Ridgeville, OH 44039 | City Hall, 7307 Avon Belden Road, North Ridgeville, OH 44039 | Jul. 8, 2022 | 390352
Lucas (FEMA Docket No.: B-2246) | City of Toledo (21-05-2785P) | The Honorable Wade Kapszukiewicz, Mayor, City of Toledo, 1 Government Center, 640 Jackson Street, Toledo, OH 43604 | Department of Inspection, 1 Government Center, Suite 1600, Toledo, OH 43604 | Sep. 29, 2022 | 395373
Summit (FEMA Docket No.: B-2230) | Unincorporated Areas of Summit County (21-05-3486P) | Executive Ilene Shapiro, Summit County, 175 South Main Street, 8th Floor, Akron, OH 44308 | Summit County Building Standards Department, 1030 East Tallmadge Avenue, Akron, OH 44310 | Jun. 9, 2022 | 390781
Summit (FEMA Docket No.: B-2230) | Village of Reminderville, (21-05-3486P) | The Honorable Sam Alonso, Mayor, Village of Reminderville, 3382 Glenwood Boulevard, Reminderville, OH 44202 | Village Hall, 3382 Glenwood Boulevard, Reminderville, OH 44202 | Jun. 9, 2022 | 390855
Warren (FEMA Docket No.: B-2237) | City of Mason (21-05-3113P) | The Honorable Kathy Grossmann, Mayor, City of Mason, 6000 Mason Montgomery Road, Mason, OH 45040 | Municipal Building, 6000 Mason Montgomery Road, Mason, OH 45040 | Aug. 22, 2022 | 390559
Oregon: Lane (FEMA Docket No.: B-2246) | Unincorporated Areas of Lane County (22-10-0105P) | Commissioner Joe Berney, Lane County Board of County Commissioners, 125 East 8th Avenue, Eugene, OR 97401 | Lane County, Customer Service Center, 3050 North Delta Highway, Eugene, OR 97408 | Aug. 26, 2022 | 415591
South Carolina:
Jasper (FEMA Docket No.: B-2237) | City of Hardeeville, (21-04-0577P) | The Honorable Harry Williams, Mayor, City of Hardeeville, P.O. Box 609, Hardeeville, SC 29927 | City Hall, 205 Main Street, Hardeeville, SC 29927 | Jul. 28, 2022 | 450113
Jasper (FEMA Docket No.: B-2237) | Unincorporated Areas of Jasper County (21-04-0577P) | Barbara Clark, Chair, Jasper County, P.O. Box 1659, Ridgeland, SC 29936 | Jasper County Planning and Building Services, 358 3rd Avenue, Room 202, Ridgeland, SC 29936 | Jul. 28, 2022 | 450112
Texas:
Dallas (FEMA Docket No.: B-2230) | City of Grand Prairie (21-06-2282P) | The Honorable Ron Jensen, Mayor, City of Grand Prairie, 300 West Main Street, Grand Prairie, TX 75050 | City Development Center, 205 West Church Street, Grand Prairie, TX 75050 | Jul. 11, 2022 | 485472
Travis (FEMA Docket No.: B-2246) | City of Austin (21-06-2164P) | The Honorable Steve Adler, Mayor, City of Austin, P.O. Box 1088, Austin, TX 78767 | Watershed Engineering Division, 505 Barton Springs Road, 12th Floor, Austin, TX 78704 | Sep. 22, 2022 | 480624
Washington:
King (FEMA Docket No.: B-2246) | City of Issaquah (21-10-1197P) | The Honorable Mary Lou Pauly, Mayor, City of Issaquah, 130 East Sunset Way, Issaquah, WA 98027 | City Hall, 1775 12th Avenue Northwest, Issaquah, WA 98027 | Sep. 26, 2022 | 530079
Pierce (FEMA Docket No.: B-2246) | City of Puyallup (21-10-0191P) | The Honorable Dean Johnson, Mayor, City of Puyallup, City Hall, 333 South Meridian, Puyallup, WA 98371 | City Hall, 333 South Meridian, Puyallup, WA 98371 | Sep. 8, 2022 | 530144
Wisconsin:
Kenosha (FEMA Docket No.: B-2237) | Village of Pleasant Prairie (21-05-4480P) | John P. Steinbrink, President, Village of Pleasant Prairie, 9915 39th Avenue, Pleasant Prairie, WI 53158 | Village Hall, 9915 39th Avenue, Pleasant Prairie, WI 53158 | Aug. 4, 2022 | 550613
Kenosha (FEMA Docket No.: B-2230) | Village of Salem Lakes (21-05-3136P) | Diann Tesar, President, Village of Salem Lakes, P.O. Box 443, Salem, WI 53168 | Village Hall, 9814 Antioch Road, Salem, WI 53168 | Jun. 16, 2022 | 550505
Milwaukee (FEMA Docket No.: B-2246) | City of Oak Creek (21-05-0691P) | The Honorable Daniel Bukiewicz, Mayor, City of Oak Creek, 8040 South 6th Street, Oak Creek, WI 53154 | City Hall, 8640 South Howell Avenue, Oak Creek, WI 53154 | Aug. 25, 2022 | 550279

[FR Doc. 2022-23545 Filed 10-27-22; 8:45 am]

BILLING CODE 9110-12-P